DEPARTMENT OF HOMELAND SECURITY

Coast Guard

33 CFR Part 165

[Docket No. USCG-2016-0207]

Safety Zones; Fireworks and Swim Events in Captain of the Port New York Zone

AGENCY: Coast Guard, DHS.

ACTION: Notice of enforcement of regulation.

SUMMARY: The Coast Guard will enforce various safety zones within the Captain of the Port New York Zone on the specified dates and times. This action is necessary to ensure the safety of vessels, participants and spectators from hazards associated with fireworks displays and swim events. During the enforcement period, no person or vessel may enter the safety zones without permission of the Captain of the Port (COTP).

DATES: The regulation for the safety zones described in 33 CFR 165.160 will be enforced on the dates and times listed in the table below.

FOR FURTHER INFORMATION CONTACT: If you have questions on this notice, call or email Petty Officer First Class Ronald Sampert U.S. Coast Guard; telephone 718-354-4197, email ronald.j.sampert@uscg.mil.

SUPPLEMENTARY INFORMATION: The Coast Guard will enforce the safety zones listed in 33 CFR 165.160 on the specified dates and times as indicated in Tables 1 and 2 below. This regulation was published in the Federal Register on November 9, 2011 (76 FR 69614).

Table 1
1. Schnider Party, Poughkeepsie, NY, Hudson River Safety Zone, 33 CFR 165.160(5.13) | • Launch site: A barge located in approximate position 41°42′24.50″ N. 073°56′44.16″ W. (NAD 1983), approximately 420 yards north of the Mid Hudson Bridge. This Safety Zone is a 300-yard radius from the barge.
| • Date: March 25, 2016.
| • Time: 8:30 p.m.-10:20 p.m.
2. The Battery, The Battery, Hudson River Safety Zone, 33 CFR 165.160(5.2) | • Launch site: A barge located in approximate position 40°42′00″ N. 074°01′17″ W. (NAD 1983) approximately 500 yards south of The Battery, Manhattan, New York. This Safety Zone is a 360-yard radius from the barge.
| • Date: April 18, 2016.
| • Time: 8:45 p.m.-10:00 p.m.
3. N.E.C.O. Awards, Liberty Island Safety Zone, 33 CFR 165.160(2.1) | • Launch site: A barge located in approximate position 40°41′16.5″ N. 074°02′23″ W. (NAD 1983) located in Federal Anchorage 20-C, about 360 yards east of Liberty Island. This Safety Zone is a 360-yard radius from the barge.
| • Date: May 7, 2016.
| • Time: 11:00 p.m.-12:10 a.m.
4. Town of North Hempstead Summer Kick Off, Bar Beach, Hempstead Harbor Safety Zone, 33 CFR 165.160(3.9) | • Launch site: A barge located in approximate position 40°49′50″ N. 073°39′12″ W. (NAD 1983), approximately 190 yards north of Bar Beach, Hempstead Harbor, New York. This Safety Zone is a 180-yard radius from the barge.
| • Date: May 28, 2016.
| • Time: 9:00 p.m.-10:30 p.m.

Table 2
1. Swim Across America Swim Event, 33 CFR 165.160(3.0) Date: July 30, 2016 | • Location: Participants will swim between Glen Cove and Larchmont, New York and an area of Hempstead Harbor between Glen Cove and the vicinity of Umbrella Point. This Safety Zone includes all waters within a 100-yard radius of each participating swimmer.
| • Date: July 30, 2016.
| • Time: 5:30 a.m.-12:00 p.m.
2. Newburgh Beacon Swim, Swim Event, 33 CFR 165.160(1.2) Date: August 6, 2016 | • Location: Participants will cross the Hudson River between Newburgh and Beacon, New York approximately 1300 yards south of the Newburgh-Beacon Bridges. This Safety Zone includes all waters within a 100-yard radius of each participating swimmer.
| • Date: August 6, 2016.
| • Time: 09:15 a.m.-1:15 p.m.

Under the provisions of 33 CFR 165.160, vessels may not enter the safety zones unless given permission from the COTP or a designated representative. Spectator vessels may transit outside the safety zones but may not anchor, block, loiter in, or impede the transit of other vessels. The Coast Guard may be assisted by other Federal, State, or local law enforcement agencies in enforcing this regulation.

This notice is issued under authority of 33 CFR 165.160(a) and 5 U.S.C. 552(a). In addition to this notice in the Federal Register, the Coast Guard will provide mariners with advanced notification of enforcement periods via the Local Notice to Mariners and marine information broadcasts. If the COTP determines that a safety zone need not be enforced for the full duration stated in this notice, a Broadcast Notice to Mariners may be used to grant general permission to enter the safety zone.

Dated: March 18, 2016.
M.H. Day,
Captain, U.S. Coast Guard, Captain of the Port New York.

[FR Doc. 2016-09024 Filed 4-18-16; 8:45 am]

BILLING CODE 9110-04-P